DEPARTMENT OF COMMERCE

International Trade Administration

[A-549-831]

Steel Threaded Rod From Thailand: Final Determination of Sales at Less Than Fair Value and Affirmative Final Determination of Critical Circumstances

AGENCY: Enforcement and Compliance, formerly Import Administration, International Trade Administration, Department of Commerce.

SUMMARY: On December 31, 2013, the Department of Commerce (the “Department”) published the preliminarily determination of the antidumping investigation of steel threaded rod from Thailand. The period of investigation (“POI”) is April 1, 2012, through March 31, 2013. We gave interested parties an opportunity to comment on the preliminary determination, but we received no comments. The final weighted-average dumping margins of sales at less than fair value (“LTFV”) are listed below in the “Final Determination” section of this notice.

DATES: Effective Date: March 14, 2014.

FOR FURTHER INFORMATION CONTACT: Raquel Silva, AD/CVD Operations, Office III, Enforcement and Compliance, International Trade Administration, U.S. Department of Commerce, 14th Street and Constitution Avenue NW., Washington, DC 20230; telephone: (202) 482-6475.

SUPPLEMENTARY INFORMATION:

Background

On December 31, 2013, the Department published the preliminary determination of sales at LTFV of steel threaded rod from Thailand.¹ We invited interested parties to comment on the Preliminary Determination, but we received no comments. The Department conducted this investigation in accordance with section 731 of the Tariff Act of 1930, as amended (“the Act”).

¹ See Steel Threaded Rod From Thailand: Preliminary Determination of Sales at Less Than Fair Value and Affirmative Preliminary Determination of Critical Circumstances, 78 FR 79670 (December 31, 2013) (“Preliminary Determination”).

Scope of the Investigation

The merchandise covered by this investigation is steel threaded rod. Steel threaded rod is certain threaded rod, bar, or studs, of carbon quality steel, having a solid, circular cross section, of any diameter, in any straight length, that have been forged, turned, cold-drawn, cold-rolled, machine straightened, or otherwise cold-finished, and into which threaded grooves have been applied. In addition, the steel threaded rod, bar, or studs subject to this investigation are non-headed and threaded along greater than 25 percent of their total length. A variety of finishes or coatings, such as plain oil finish as a temporary rust protectant, zinc coating (i.e., galvanized, whether by electroplating or hot-dipping), paint, and other similar finishes and coatings, may be applied to the merchandise. For a complete description of the scope of the investigation, see the Appendix to this notice.

Final Determination

We made no changes to our calculations announced in the Preliminary Determination. The sole mandatory respondent in this proceeding, Tycoons Worldwide Group (Thailand) Public Co., Ltd. (“Tycoons”), failed to respond to the Department's questionnaire and did not further participate in this proceeding. Therefore, we continue to apply adverse facts available to this respondent in accordance with section 776 of the Act and 19 CFR 351.308, and determine that a weighted-average dumping margin of 74.90 percent exists for Tycoons for the period April 1, 2012, through March 31, 2013.² Further, we continue to determine the weighted-average dumping margin for all other entities not individually examined to be 68.41 percent, i.e., the average of the margins calculated by the Petitioners ³ in the Petition.⁴ ⁵

² For a full description of the methodology underlying our conclusions, see Memorandum to Ronald K. Lorentzen entitled “Decision Memorandum for the Preliminary Determination of the Antidumping Duty Investigation of Steel Threaded Rod From Thailand,” dated December 20, 2013 (“Preliminary Decision Memorandum”).

³ All America Threaded Products Inc., Bay Standard Manufacturing Inc., and Vulcan Threaded Products Inc. (“Petitioners”).

⁴ See Petitions for the Imposition of Antidumping Duties On Steel Threaded Rod From Thailand and Antidumping and Countervailing Duties on Steel Threaded Rod From India, filed on June 27, 2013 (“Petition”), Volume II at Exhibit II-5.

⁵ See Notice of Preliminary Determination of Sales at Less Than Fair Value: Sodium Nitrite From the Federal Republic of Germany, 73 FR 21909 (April 23, 2008); unchanged in Notice of Final Determination of Sales at Less Than Fair Value: Sodium Nitrite From the Federal Republic of Germany, 73 FR 38986 (July 8, 2008).

Final Affirmative Determination of Critical Circumstances

We made no changes to our critical circumstances analysis announced in the Preliminary Determination, as described in the Preliminary Decision Memorandum. Thus, pursuant to section 735(a)(3) of the Act, we continue to find that critical circumstances exist with respect to imports of the merchandise under consideration.

Continuation of Suspension of Liquidation

In accordance with section 735(c)(1) of the Act, we normally instruct U.S. Customs and Border Protection (“CBP”) to continue to suspend liquidation of all entries of steel threaded rod from Thailand, as described in the “Scope of the Investigation” section, entered, or withdrawn from warehouse, for consumption on or after the date of publication of the Preliminary Determination. However, because we continue to find critical circumstances exist with regard to exports by Tycoons and All Others, pursuant to section 735(c)(4) of the Act, we will instruct CBP to continue to suspend liquidation of covered entries entered, or withdrawn from warehouse, for consumption on or after the date 90 days prior to the date of publication of the Preliminary Determination, October 2, 2013.

Further, the Department will instruct CBP to require a cash deposit ⁶ equal to the weighted-average amount by which normal value exceeds U.S. price, as follows: (1) The rate for Tycoons is 74.90 percent; (2) if the exporter is not a firm identified in this investigation, but the producer is, the rate will be the rate established for the producer of the subject merchandise; (3) the rate for all other producers or exporters will be 68.41 percent. These suspension of liquidation instructions will remain in effect until further notice.

⁶ See Modification of Regulations Regarding the Practice of Accepting Bonds During the Provisional Measures Period in Antidumping and Countervailing Duty Investigations, 76 FR 61042 (October 3, 2011).

Notification Regarding Administrative Protective Orders

This notice serves as a reminder to parties subject to the administrative protective order (“APO”) of their responsibility concerning the disposition of proprietary information disclosed under APO in accordance with 19 CFR 351.305(a)(3). Timely notification of the destruction of APO materials or conversion to judicial protective order is hereby requested. Failure to comply with the regulations and the terms of an APO is a sanctionable violation.

U.S. International Trade Commission (“ITC”) Notification

In accordance with section 735(d) of the Act, we notified the ITC of the final affirmative determination of sales at LTFV. In accordance with section 735(b)(2) of the Act, the ITC will determine, within 45 days, whether the domestic industry in the United States is materially injured, or threatened with material injury, by reason of imports, or sales (or the likelihood of sales) for importation, of the merchandise under consideration. If the ITC determines that material injury or threat of material injury does not exist, the proceeding will be terminated and all securities posted will be refunded. If the ITC determines that such injury does exist, the Department will issue an antidumping duty order directing CBP to assess, upon further instruction by the Department, antidumping duties on all imports of the subject merchandise entered, or withdrawn from warehouse, for consumption on or after the effective date of the suspension of liquidation.

This determination is issued and published pursuant to sections 735(d) and 777(i)(1) of the Act.

Dated: March 5, 2014.
Paul Piquado,
Assistant Secretary for Enforcement and Compliance.

Appendix

Scope of the Investigation

The merchandise covered by this investigation is steel threaded rod. Steel threaded rod is certain threaded rod, bar, or studs, of carbon quality steel, having a solid, circular cross section, of any diameter, in any straight length, that have been forged, turned, cold-drawn, cold-rolled, machine straightened, or otherwise cold-finished, and into which threaded grooves have been applied. In addition, the steel threaded rod, bar, or studs subject to this investigation are nonheaded and threaded along greater than 25 percent of their total length. A variety of finishes or coatings, such as plain oil finish as a temporary rust protectant, zinc coating (i.e., galvanized, whether by electroplating or hot-dipping), paint, and other similar finishes and coatings, may be applied to the merchandise.

Included in the scope of this investigation are steel threaded rod, bar, or studs, in which: (1) Iron predominates, by weight, over each of the other contained elements; (2) the carbon content is 2 percent or less, by weight; and (3) none of the elements listed below exceeds the quantity, by weight, respectively indicated:

• 1.80 percent of manganese, or

• 1.50 percent of silicon, or

• 1.00 percent of copper, or

• 0.50 percent of aluminum, or

• 1.25 percent of chromium, or

• 0.30 percent of cobalt, or

• 0.40 percent of lead, or

• 1.25 percent of nickel, or

• 0.30 percent of tungsten, or

• 0.012 percent of boron, or

• 0.10 percent of molybdenum, or

• 0.10 percent of niobium, or

• 0.41 percent of titanium, or

• 0.15 percent of vanadium, or

• 0.15 percent of zirconium.

Steel threaded rod is currently classifiable under subheadings 7318.15.5051, 7318.15.5056, 7318.15.5090 and 7318.15.2095 of the Harmonized Tariff Schedule of the United States (“HTSUS”). Although the HTSUS subheadings are provided for convenience and customs purposes, the written description of the merchandise is dispositive.

Excluded from the scope of this investigation are: (a) Threaded rod, bar, or studs which are threaded only on one or both ends and the threading covers 25 percent or less of the total length; and (b) threaded rod, bar, or studs made to American Society for Testing and Materials (“ASTM”) A193 Grade B7, ASTM A193 Grade B7M, ASTM A193 Grade B16, and ASTM A320 Grade L7.

[FR Doc. 2014-05681 Filed 3-13-14; 8:45 am]

BILLING CODE 3510-DS-P